SECURITIES AND EXCHANGE COMMISSION

Sunshine Act Meetings

FEDERAL REGISTER CITATION OF PREVIOUS ANNOUNCEMENT: 84 FR 60134, November 7, 2019.

PREVIOUSLY ANNOUNCED TIME AND DATE OF THE MEETING: Wednesday, December 18, 2019.

CHANGES IN THE MEETING: The following additional matters will be considered during the Open Meeting on Wednesday, December 18, 2019:

• Whether to adopt rules under Section 15F(i)(2) of the Securities Exchange Act of 1934 that would require security-based swap dealers and major security-based swap participants to comply with certain risk mitigation techniques with respect to portfolios of uncleared security-based swaps;

• whether to adopt certain rule amendments and guidance regarding the cross-border application of certain security-based swap requirements under the Securities Exchange Act of 1934 that were added by Title VII of the Dodd-Frank Wall Street Reform and Consumer Protection Act;

• whether to adopt an order designating certain jurisdictions as “listed jurisdictions” for purposes of one of the rule amendments noted above;

• whether to propose Rule 13q-1 and an amendment to Form SD under the Securities Exchange Act of 1934 to implement Section 1504 of the Dodd-Frank Wall Street Reform and Consumer Protection Act relating to disclosure of payments by resource extraction issuers; and

• whether to propose amendments to the definition of “accredited investor” in the Commission's rules that are intended to update and improve the definition in order to identify more effectively investors that do not need the protections of registration under the Securities Act of 1933.

CONTACT PERSON FOR MORE INFORMATION: For further information; please contact Vanessa A. Countryman from the Office of the Secretary at (202) 551-5400.

Dated: December 11, 2019.
Eduardo A. Aleman,
Deputy Secretary.

[FR Doc. 2019-27111 Filed 12-12-19; 11:15 am]

BILLING CODE 8011-01-P